DEPARTMENT OF HOMELAND SECURITY

Transportation Security Administration

[Docket No. TSA-2009-0018]

Extension of Agency Information Collection Activity Under OMB Review: Certified Cargo Screening Program

AGENCY: Transportation Security Administration, DHS.

ACTION: 30-Day notice.

SUMMARY: This notice announces that the Transportation Security Administration (TSA) has forwarded the Information Collection Request (ICR), Office of Management and Budget (OMB) control number 1652-0053, abstracted below to OMB for renewal in compliance with the Paperwork Reduction Act. The ICR describes the nature of the information collection and its expected burden. TSA published a Federal Register notice, with a 60-day comment period soliciting comments, of the following collection of information on November 30, 2015, 80 FR 74786. The collection involves: (1) Applications from entities that wish to become Certified Cargo Screening Facilities (CCSFs); (2) personally identifiable information to allow TSA to conduct security threat assessments on certain individuals employed by the CCSFs; (3) standard security programs or submission of a proposed modified security program or amendment to a security program; and (4) recordkeeping requirements for CCSFs. TSA is seeking the renewal of the ICR for the continuation of the Certified Cargo Screening Program in order to secure passenger aircraft carrying cargo.

DATES: Send your comments by March 9, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Certified Cargo Screening Program.

Type of Request: Renewal of one currently approved ICR.

OMB Control Number: 1652-0053.

Forms(s): The forms used for this collection of information include CCSF Facility Profile Application (TSA Form 419B), CCSF Principal Attestation (TSA Form 419D), Security Profile (TSA Form 419E), and the Security Threat Assessment Application (TSA Form 419F).

Affected Public: The collections of information that make up this ICR involve entities other than aircraft operators and include facilities upstream in the air cargo supply chain, such as shippers, manufacturers, warehousing entities, distributors, third party logistics companies, and indirect air carriers located in the United States.

Abstract: TSA is seeking continued approval from OMB for the collection of information contained in the ICR. Companies seeking to become CCSFs are required to submit an application to TSA at least 90 calendar days before the intended date of operation, to include quantity, make, and model of the technology(ies) used to screen cargo. Prior to certification, the CCSF must also submit to an assessment of its facility by TSA. Once certified, the CCSF must operate in accordance with a TSA-approved security program. CCSFs must also collect personal information and submit such information to TSA so that TSA may conduct security threat assessments for individuals with unescorted access to cargo, and who have responsibility for screening cargo under title 49 Code of Federal Regulations (49 CFR) parts 1544, 1546, 1548, and 1549. CCSFs must also maintain screening, training, and other security-related records of compliance.

Estimated Number of Respondents: 18,290.

Estimated Annual Burden Hours: 7125.24 hours annually.

Dated: February 2, 2016.
Christina A. Walsh,
Paperwork Reduction Act Officer, Office of Information Technology.

[FR Doc. 2016-02341 Filed 2-5-16; 8:45 am]

BILLING CODE 9110-05-P